DEPARTMENT OF THE TREASURY

United States Mint

Price for the 2012 American Eagle Silver Uncirculated Coin

AGENCY: United States Mint, Department of the Treasury.

ACTION: Notice.

SUMMARY: The United States Mint is announcing the price of the 2012 American Eagle Silver Uncirculated Coin. The coin will be offered for sale at a price of $45.95.

FOR FURTHER INFORMATION CONTACT: B. B. Craig, Associate Director for Sales and Marketing; United States Mint; 801 9th Street NW.; Washington, DC 20220; or call 202-354-7500.

Authority: 31 U.S.C. 5111, 5112 & 9701.

Dated: July 2, 2012.
Richard A. Peterson,
Deputy Director, United States Mint.

[FR Doc. 2012-16747 Filed 7-9-12; 8:45 am]

BILLING CODE P